DEPARTMENT OF STATE

[Public Notice: 8935]

In the Matter of the Review of the Designation of Basque Fatherland and Liberty Also Known as Eta Also Known as Askatasuna Also Known as Batasuna Also Known as Ekin Also Known As Euskal Herritarrok Also Known Euzkadi Ta Akatasuna Also Known as Herri Batasuna Also Known as Jarrai-Haika-Segi Also Known as K.A.S. Also Known as Xaki as a Foreign Terrorist Organization Pursuant to Section 219 of the Immigration and Nationality Act, as Amended

Based upon a review of the Administrative Record assembled in these matter pursuant to Section 219(a)(4)(C) of the Immigration and Nationality Act, as amended (8 U.S.C. 1189(a)(4)(C)) (“INA”), and in consultation with the Attorney General and the Secretary of the Treasury, I conclude that the circumstances that were the basis for the 2008 decision to maintain the designation of the aforementioned organization as a Foreign Terrorist Organization have not changed in such a manner as to warrant revocation of the designation and that the national security of the United States does not warrant a revocation of the designation.

Therefore, I hereby determine that the designation of the aforementioned organization as a Foreign Terrorist Organization, pursuant to Section 219 of the INA (8 U.S.C. § 1189), shall be maintained.

This determination shall be published in the Federal Register.

John F. Kerry,
Secretary of State.

[FR Doc. 2014-26200 Filed 11-3-14; 8:45 am]

BILLING CODE 4710-10-P